DEPARTMENT OF TRANSPORTATION

Federal Aviation Administration

14 CFR Part 39

[Docket No. 2002-NM-112-AD; Amendment 39-13414; AD 2004-01-01]

RIN 2120-AA64

Airworthiness Directives; Bombardier Model CL-600-2B19 (Regional Jet Series 100 & 440) Airplanes

AGENCY: Federal Aviation Administration, DOT.

ACTION: Final rule.

SUMMARY: This amendment adopts a new airworthiness directive (AD), applicable to certain Bombardier Model CL-600-2B19 series airplanes (Regional Jet Series 100 & 440), that requires a one-time inspection of the dust covers for the flight data recorder (FDR) and cockpit voice recorder (CVR) equipment for the presence of markings that indicate the presence of a chemical-resistant coating, and corrective actions if necessary. The actions specified by this AD are intended to prevent peeling of the paint and markings from the dust covers for FDR and CVR equipment due to hydraulic mist from the actuators, which could result in the inability to identify FDR and CVR equipment in the event of an accident-recovery mission. The lack of data from FDR and CVR equipment could hamper discovery of the unsafe condition that caused an accident or an incident and prevent the FAA from developing and mandating actions to prevent additional accidents or incidents caused by that same unsafe condition. This action is intended to address the identified unsafe condition.

DATES: Effective February 13, 2004.

The incorporation by reference of certain publications listed in the regulations is approved by the Director of the Federal Register as of February 13, 2004.

ADDRESSES: The service information referenced in this AD may be obtained from Bombardier, Inc., Canadair, Aerospace Group, P.O. Box 6087, Station Centre-ville, Montreal, Quebec H3C 3G9, Canada. This information may be examined at the Federal Aviation Administration (FAA), Transport Airplane Directorate, Rules Docket, 1601 Lind Avenue, SW., Renton, Washington; or at the FAA, New York Aircraft Certification Office (ACO), 10 Fifth Street, Third Floor, Valley Stream, New York; or at the Office of the Federal Register, 800 North Capitol Street, NW., suite 700, Washington, DC.

FOR FURTHER INFORMATION CONTACT: Luciano L. Castracane, Aerospace Engineer, Sytems and Flight Test Branch, ANE-172, FAA, New York ACO, 10 Fifth Street, Third Floor, Valley Stream, New York 11581; telephone (516) 256-7535; fax (516) 568-2716.

SUPPLEMENTARY INFORMATION: A proposal to amend part 39 of the Federal Aviation Regulations (14 CFR part 39) to include an airworthiness directive (AD) that is applicable to certain Bombardier Model CL-600-2B19 series airplanes was published in the Federal Register on January 30, 2003 (68 FR 4737). That action proposed to require a one-time inspection of the dust covers for the flight data recorder (FDR) and cockpit voice recorder (CVR) equipment for the presence of markings that indicate the presence of a chemical-resistant coating, and corrective actions if necessary.

Comments

Interested persons have been afforded an opportunity to participate in the making of this amendment. Due consideration has been given to the comments received.

Request To Revise Compliance Time for Corrective Action

The proposed AD specified an inspection within 18 months after the effective date of the AD, and rework or replacement of discrepant dust covers before further flight. One commenter expresses concern for the potential grounding of airplanes awaiting replacement parts and requests that the proposed AD be revised to require replacement of noncompliant dust covers within 6 months after discovery, but not later than 18 months after the effective date of the AD. The commenter adds that it would be impossible to schedule inspections for a relatively large fleet of airplanes without having a supply of potentially unnecessary spare dust covers on hand. The commenter suggests that allowing replacement of the noncompliant covers within a specified period of time after discovery would be a more reasonable approach from a logistics and cost standpoint.

The FAA concurs with the request and agrees with the commenter's rationale. Paragraphs (a)(2) and (b)(2) have been revised accordingly in this final rule.

Request To Revise Description of Unsafe Condition

One commenter questions the characterization of the unsafe condition addressed in the proposed AD. The proposed AD acknowledges that the loss of paint or markings on functionally sound FDR and CVR equipment does not put the airplane in an unsafe condition. The commenter goes on to interpret the unsafe condition as the “potential inability to locate the equipment after a potential accident or incident that was potentially caused by an unsafe condition, due to the potential loss of paint or markings on the equipment” (emphasis omitted). The commenter suggests that compliance with the proposed AD would do nothing to prevent the unsafe condition in an accident or incident involving an unscheduled water landing, because an underwater locating device (ULD), required to be attached to each FDR and CVR, could also be used to identify the FDR/CVR. The commenter adds that compliance with the AD would not protect against a fire intense enough to damage the paint or markings on the FDR/CVR. The commenter adds that the FDR/CVR equipment can be identified by means other than paint and markings. The commenter suggests that recovery personnel should be informed that a ULD can be used to identify an FDR or CVR.

The FAA disagrees. The timely recovery, after an accident, of the CVR and FDR is critical to the investigation and determination of probable cause. We recognize that there is more than one way (i.e., the color of the boxes) to identify these pieces of equipment. It is by the use of these multiple methods of identification that the timeliness of recovery can be maximized given the conditions at an accident site. A delay in the recovery of these pieces of equipment and subsequent data analysis could prevent the timely correction of a critical safety issue affecting other airplanes of the same type design. It is in the interest of safety to ensure that all necessary methods of identification remain available to investigators.

Request To Revise Proposed Requirement

This same commenter finds the proposed one-time inspection insufficient to prevent damage to the paint and markings on the recording components. The commenter notes that there is no method available to prevent an unprotected component from being later installed in a formerly compliant airplane. The commenter adds that, since the component is not tracked for compliance with an AD, operators would have difficulty determining whether the paint and markings have been protected (in accordance with the AD) before the component is installed in an already compliant airplane. The commenter adds that components undamaged at the time of the inspection may be installed in an airplane, yet not be protected, and the proposed AD provides no means to prevent damage after compliance with the AD. The commenter asserts that the potential for the identified unsafe condition has not been reduced. The commenter requests that the proposed AD be revised to address affected components instead of airplanes and require a part number change as a means to track compliance with the AD.

The FAA does not agree. There would be clear distinction between the old and new parts even though the part numbers remain unchanged. The new parts would be marked with “CLR CTD” on the rear panel of the dust cover and as part of the new chemical resistant protection scheme would be unaffected by hydraulic fluid mist. Maintenance personnel will be able to readily identify whether or not the new parts are installed on an airplane. The proposed AD also included a prohibition against installing parts that had not been reworked in accordance with the service bulletin. Again, this would be readily identifiable by the presence of the marking “CLR CTD” on the rear panel of the dust cover.

Additional Change to Proposed AD

The identity of the affected airplanes has been changed to “Bombardier Model CL-600-2B19 (Regional Jet Series 100 & 440) airplanes” to match the identification on the type certificate.

Conclusion

After careful review of the available data, including the comments noted above, the FAA has determined that air safety and the public interest require the adoption of the rule with the changes described previously. The FAA has determined that these changes will neither increase the economic burden on any operator nor increase the scope of the AD.

Revised Labor Rate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

The FAA estimates that 220 airplanes of U.S. registry will be affected by this AD, that it will take approximately 1 work hour per airplane to accomplish the required actions, and that the average labor rate is $65 per work hour. Based on these figures, the cost impact of the AD on U.S. operators is estimated to be $14,300, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-01-01 Bombardier, Inc. (Formerly Canadair): Amendment 39-13414. Docket 2002-NM-112-AD.

Applicability: Model CL-600-2B19 (Regional Jet Series 100 & 440) airplanes, serial numbers 7003 through 7573 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent peeling of the paint and markings from the dust covers for the flight data recorder (FDR) and cockpit voice recorder (CVR) equipment due to hydraulic mist from the actuators, which could result in the inability to identify the FDR and CVR equipment in the event of an accident-recovery mission, accomplish the following:

One-Time Inspection and Corrective Actions

(a) For airplanes having serial numbers 7003 through 7067 inclusive, and 7069 through 7570 inclusive: Within 18 months after the effective date of this AD, do a general visual inspection of the dust cover for the FDR to determine if a chemical agent resistant coating has been applied to the dust cover. Do the inspection per Part A of the Accomplishment Instructions of Bombardier Service Bulletin 601R-31-026, dated October 12, 2001. Dust covers that have had a protective coating applied are identified through the markings specified in the service bulletin.

(1) If specified markings are present: No further action is required by this paragraph.

(2) If specified markings are not present: Within 18 months after the effective date of this AD, or within 6 months after the inspection, whichever occurs first, do the action required by either paragraph (a)(2)(i) or (a)(2)(ii) of this AD:

(i) Rework the FDR dust cover per Part B of the Accomplishment Instructions of the service bulletin; or

(ii) Replace the FDR dust cover with a new dust cover per Part C of the Accomplishment Instructions of the service bulletin.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(b) For airplanes having serial numbers 7003 through 7067 inclusive, and 7069 through 7573 inclusive: Within 18 months after the effective date of this AD, do a general visual inspection of the CVR dust cover to determine if a chemical agent resistant coating has been applied to the dust cover. Dust covers that have had a protective coating applied are identified through the markings specified in the service bulletin. Do the inspection per Part A of the Accomplishment Instructions of Bombardier Service Bulletin 601R-23-056, dated October 12, 2001.

(1) If specified markings are present: No further action is required by this paragraph.

(2) If specified markings are not present: Within 18 months after the effective date of this AD, or within 6 months after the inspection, whichever occurs first, do the action required by either paragraph (b)(2)(i) or (b)(2)(ii) of this AD:

(i) Rework the CVR dust cover per Part B of the Accomplishment Instructions of the service bulletin; or

(ii) Replace the CVR dust cover with a new dust cover per Part C of the Accomplishment Instructions of the service bulletin.

Parts Installation

(c) As of the effective date of this AD, no person shall install an FDR dust cover, part number (P/N) 074E0198-00; or a CVR dust cover, P/N 075E0604-00 or 9300A218S; unless the rework action required by paragraphs (a)(2)(i) and (b)(2)(i) of this AD, as applicable, has been done.

Alternative Methods of Compliance

(d) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 3: Information concerning the existence of approved alternative methods of compliance with this AD, if any, may be obtained from the New York ACO.

Special Flight Permits

(e) Special flight permits may be issued in accordance with sections 21.197 and 21.199 of the Federal Aviation Regulations (14 CFR 21.197 and 21.199) to operate the airplane to a location where the requirements of this AD can be accomplished.

Incorporation by Reference

(f) The actions must be done in accordance with Bombardier Service Bulletin 601R-23-056, dated October 12, 2001; and Bombardier Service Bulletin 601R-31-026, dated October 12, 2001; as applicable. This incorporation by reference was approved by the Director of the Federal Register in accordance with 5 U.S.C. 552(a) and 1 CFR part 51. Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the FAA, New York ACO, 10 Fifth Street, Third Floor, Valley Stream, New York; or at the Office of the Federal Register, 800 North Capitol Street, NW., suite 700, Washington, DC.

Note 4: The subject of this AD is addressed in Canadian airworthiness directive CF-2001-45, dated December 3, 2001.

Effective Date

(g) This amendment becomes effective on February 13, 2004.

Issued in Renton, Washington, on December 29, 2003.
Ali Bahrami,
Acting Manager, Transport Airplane Directorate, Aircraft Certification Service.

[FR Doc. 04-121 Filed 1-8-04; 8:45 am]

BILLING CODE 4910-13-P